DEPARTMENT OF THE INTERIOR

Fish and Wildlife Service

Recovery Plan for the Sierra Nevada Bighorn Sheep (Ovis canadensis californiana)

AGENCY: U.S. Fish and Wildlife Service, Interior.

ACTION: Notice of document availability.

SUMMARY: We, the U.S. Fish and Wildlife Service (Service), announce the availability of the recovery plan for the Sierra Nevada bighorn sheep (Ovis canadensis californiana). The Sierra Nevada bighorn sheep occurs primarily on lands managed by the U.S. Forest Service (Inyo and Humboldt-Toiyabe National Forests) and the National Park Service (Yosemite National Park) in the Sierra Nevada in western Inyo and Mono Counties, California. This recovery plan describes the status, current management, recovery objectives and criteria, and specific actions needed to reclassify the Sierra Nevada bighorn sheep from endangered to threatened, and to ultimately delist it.

ADDRESSES: You may obtain a copy of the plan by either of the following methods:

Internet: Download a copy at http://endangered.fws.gov/recovery/index.html#plans, or U.S. mail: Send a request to U.S. Fish and Wildlife Service, Ventura Fish and Wildlife Office, 2493 Portola Road, Suite B, Ventura, CA 93003. Printed copies of the recovery plan will be available for distribution in 4 to 6 weeks.

FOR FURTHER INFORMATION CONTACT: Brian Croft, Fish and Wildlife Biologist, at the above address (telephone 951-697-5365).

SUPPLEMENTARY INFORMATION:

Background

Recovery of endangered or threatened animals and plants to the point where they are again secure, self-sustaining members of their ecosystems is a primary goal of our endangered species program. To help guide the recovery effort, we are working to prepare recovery plans for most listed species native to the United States. Recovery plans describe actions considered necessary for the conservation of the species, establish criteria for downlisting or delisting listed species, and estimate time and cost for implementing the recovery measures needed.

The Endangered Species Act (16 U.S.C. 1531, et seq.) (Act) requires us to develop recovery plans for listed species unless such a plan would not promote the conservation of a particular species. Section 4(f) of the Act requires us to provide public notice and an opportunity for public review and comment during recovery plan development. We made the draft recovery plan for the Sierra Nevada bighorn sheep available for public comment from July 30, 2003, through September 29, 2003 (68 FR 44808), and again from October 9, 2003, through December 8, 2003 (68 FR 58355). We considered information we received during these public comment periods and information from peer reviewers in our preparation of this final recovery plan, and also summarized that information in Appendix J of the recovery plan. We will forward substantive comments regarding recovery plan implementation to appropriate Federal and State agencies or other entities so they can consider these comments during the course of implementing recovery actions. We developed this recovery plan with input from the Sierra Nevada Bighorn Sheep Recovery Team, including a science team and a stakeholder team. We also coordinated with the California Department of Fish and Game.

We listed the Sierra Nevada bighorn sheep as an endangered distinct population segment (DPS) on January 3, 2000 (65 FR 20), following initial emergency listing on April 20, 1999 (64 FR 19300). At the time of listing, the Sierra Nevada bighorn sheep population consisted of about 125 adults, known to exist among 5 geographic areas, with little probability of interchange among those areas. In 2000, on the basis of concurrence between genetic and morphometric data, Wehausen and Ramey (2000) reassigned populations of California bighorn outside of the Sierra Nevada to other subspecies, leaving bighorn sheep in the Sierra Nevada as their own subspecies. By the rules of zoological nomenclature, they again assume Grinnell's (1912) subspecies name sierrae (Wehausen et al. 2005). With that nomenclature change, the California bighorn subspecies was terminated. Concurrent with the proposed designation of critical habitat for Sierra Nevada bighorn, on July 25, 2007, the U.S. Fish and Wildlife Service formally proposed a taxonomic revision to amend the final listing rule from DPS to subspecies, Ovis canadensis sierrae.

The Sierra Nevada bighorn sheep is threatened primarily by mountain lion predation, small population size, and the potential for disease transmission due to contact with domestic sheep and goats. Key elements for immediate action are: (1) Predator management; (2) augmentation of small herds with sheep from larger ones; and (3) elimination of the threat of a pneumonia epizootic resulting from contact with domestic sheep or goats. Actions needed to recover the bighorn sheep include: (1) Protection, maintenance, and enhancement of bighorn sheep habitat; (2) enhancing survivorship and reproductive output of bighorn sheep in order to the increase population; (3) increasing the use of low-elevation winter ranges; (4) increasing the numbers of herds, and thereby the number of bighorn sheep; (5) developing and implementing a genetic management plan to maintain genetic diversity; (6) developing sources of translocation stock; (7) developing and implementing a captive breeding program, if necessary; (8) monitoring status and trends of bighorn sheep herds and their habitat; (9) research; and (10) providing information to and working with the public.

Authority: The authority for this action is section 4(f) of the Endangered Species Act, 16 U.S.C. 1533(f).

Dated: February 6, 2008.
Ken McDermond,
Acting Regional Director, Region 8, U.S. Fish and Wildlife Service.

[FR Doc. E8-2627 Filed 2-12-08; 8:45 am]

BILLING CODE 4310-55-P